DEPARTMENT OF TRANSPORTATION

Coast Guard

33 CFR Part 117

[CGD08-01-053]

Drawbridge Operating Regulation; Lake Pontchartrain, LA

AGENCY: Coast Guard, DOT.

ACTION: Notice of temporary deviation from regulations.

SUMMARY: The Commander, Eighth Coast Guard District has issued a temporary deviation from the regulation in 33 CFR 117.467 governing the operation of the bascule spans of the Greater New Orleans Expressway Commission Causeway across Lake Pontchartrain between Metairie, Jefferson Parish and Mandeville, St. Tammany Parish, Louisiana. This deviation allows the draws of the bridge to remain closed to navigation from 6 a.m. on Monday, January 14, 2002 until 6 a.m. on Wednesday, January 16, 2002, to allow for the connection of new submarine control cables to operate the draw spans of the bridge. If inclement weather does not allow the work to proceed on these dates the work will be rescheduled and the draws of the bridge will be allowed to remain closed to navigation for the backup dates from 6 a.m. on Wednesday, January 16, 2002 until 6 a.m. on Friday, January 18, 2002.

DATES: This deviation is effective from 6 a.m. on Monday, January 14, 2002 until 6 a.m. on Friday, January 18, 2002.

ADDRESSES: Unless otherwise indicated, documents referred to in this notice are available for inspection or copying at the office of the Eighth Coast Guard District, Bridge Administration Branch, Commander (obc), 501 Magazine Street, New Orleans, Louisiana, 70130-3396 between 7 a.m. and 3 p.m., Monday through Friday, except Federal holidays. The Bridge Administration Branch maintains the public docket for this temporary deviation.

FOR FURTHER INFORMATION CONTACT: David Frank, Bridge Administration Branch, telephone (504) 589-2965.

SUPPLEMENTARY INFORMATION: Presently, the draw is required to open on signal if at least three hours notice is given; except that, the draw need not be opened for the passage of vessels Monday through Friday except Federal holidays from 5:30 a.m. to 9:30 a.m. and from 3 p.m. until 7 p.m. The draw opens on signal for any vessel in distress or vessels waiting immediately following the closures listed above.

During the closure period, the bridge will not be able to open for vessels to transit through the bascule spans of the bridge. The bridge has a vertical clearance of 42 feet above mean high water in the closed-to-navigation position. In case of an emergency, the bridge owner will be able to hand crank the draws of the bridge to the open-to-navigation position. As an alternate route, the south channel fixed spans of the bridge provide a vertical clearance of 50 feet above mean high water. Navigation on the waterway consists of small tugs with tows, fishing vessels, sailing vessels, and other recreational craft.

The Greater New Orleans Expressway Commission requested a temporary deviation from the normal operation of the drawbridge in order to allow for the connection of new submarine control cables to operate the draw spans of the bridge.

This deviation allows the draws of the bridges of the Greater New Orleans Expressway Commission Causeway across Lake Pontchartrain to remain closed to navigation from 6 a.m. on Monday, January 14, 2002 until 6 a.m. on Wednesday, January 16, 2002. If inclement weather does not allow the work to proceed on these dates the work will be rescheduled and the draws of the bridge will be allowed to remain closed to navigation for the backup dates from 6 a.m. on January 16, 2002 until 6 a.m. on January 18, 2002.

Dated: December 31, 2001.
J.R. Whitehead,
Captain, U.S. Coast Guard, Commander, 8th Coast Guard Dist., Acting.

[FR Doc. 02-725 Filed 1-10-02; 8:45 am]

BILLING CODE 4910-15-U